ENVIRONMENTAL PROTECTION AGENCY

[FRL-7255-2]

Joint USEPA/State Environmental Council of the States (ECOS) Agreement to Pursue Regulatory Innovation: Alternative Treatment Technique for National Primary Drinking Water Lead and Copper Regulations for Certain Non-transient Non-community Water Systems

AGENCY: Environmental Protection Agency.

ACTION: Notice of availability of draft variance for public review and comment.

SUMMARY: USEPA Region 5 is today proposing to issue a variance under section 1415(a)(3) of the Safe Drinking Water Act (SDWA) for certain Non-Transient Non-Community Water Systems (NTNCWSs) in the State of Michigan. The final SDWA variance would be used to implement a project entitled “Use of Flushing to Meet the Federal Lead/Copper Regulation for Nontransient Noncommunity Public Water Supply Systems.” This project is being proposed under the Joint USEPA/State Agreement to Pursue Regulatory Innovation between the USEPA and the Environmental Council of the States (ECOS).

DATES: All public comments on this draft variance must be received on or before September 5, 2002.

ADDRESSES: All written comments on the SDWA draft variance should be sent to: Miguel Del Toral, USEPA Region 5, Ground Water and Drinking Water Branch, Mailcode WG-15J, 77 West Jackson Boulevard, Chicago, Illinois, 60604. Comments may also be faxed to Miguel Del Toral at (312) 886-6171, or via electronic mail to: deltoral.miguel@epa.gov.

FOR FURTHER INFORMATION CONTACT: To obtain a copy of the SDWA draft variance, and other project documents, contact: Miguel Del Toral, USEPA Region 5, Ground Water and Drinking Water Branch, Mailcode WG-15J, 77 West Jackson Boulevard, Chicago, Illinois 60604. The SDWA draft variance and other project documents are also available on the Internet at the following location: http://www.epa.gov/region 5/water/notices.htm. Questions regarding the SDWA draft variance can be directed to Miguel Del Toral at (312) 886-5253.

SUPPLEMENTARY INFORMATION: The National Primary Drinking Water Regulations (NPDWRs) for lead and copper require all Community Water Systems (CWS) and NTNCWSs to optimize corrosion control, to minimize levels of lead and copper at consumers' taps. CWSs and NTNCWSs that exceed either the lead or copper “action level” must follow the treatment technique specified in the NPDWRs (i.e., installing corrosion control treatment (CCT)) to minimize lead levels at consumers' taps. The Michigan Department of Environmental Quality (MDEQ), which has primary enforcement responsibility for implementing the NPDWRs for lead and copper in the State of Michigan, believes that an alternative approach to CCT would be just as efficient in lowering the levels of lead and copper at consumers' taps. The alternative approach includes the replacement of fixtures contributing significant levels of lead and/or copper, and the flushing of all taps used for human consumption on a regular basis.

On May 5, 1998, USEPA and ECOS signed the “Joint EPA/State Agreement to Pursue Regulatory Innovation.” Under this Agreement, USEPA and State environmental officials agreed to explore innovative ways to implement environmental programs. MDEQ has submitted a Joint Agreement proposal under this Agreement that would allow certain NTNCWSs to use the alternative approach in lieu of complying with the treatment technique specified in the NPDWRs for lead and copper promulgated by USEPA under section 1412 of SDWA (See 40 CFR 141.80 through 141.91). USEPA has identified a variance, under Section 1415(a)(3) of SDWA, as the potentially appropriate mechanism for allowing NTNCWSs within Michigan that qualify for the variance and comply with its terms to use an alternative approach. Section 1415(a)(3) of SDWA gives USEPA the authority to issue a variance from a treatment technique “. . .upon

a showing by any person that an alternative treatment technique not included in such requirement is at least as efficient in lowering the level of the contaminant with respect to which such requirement was prescribed.” USEPA has preliminarily determined that MDEQ has made a proper showing that the alternative approach will be as efficient in lowering the levels of lead and/or copper and therefore proposes to issue a variance. The SDWA draft variance specifies eligibility and performance criteria that NTNCWSs must satisfy to be eligible for the SDWA variance, and performance criteria that these systems must satisfy to remain eligible for the SDWA variance.

After consideration of public comments received on the SDWA draft variance, USEPA will take final action on the SDWA variance, which would include any necessary modification(s) based on comments received. USEPA and MDEQ have also signed a Memorandum of Understanding (MOU) which also contains the draft eligibility and participation criteria, and outlines the roles and responsibilities of USEPA and MDEQ in implementing this project. A copy of the MOU can also be obtained by contacting Miguel Del Toral at the addresses or phone number above.

Dated: July 19, 2002.
Bharat Mathur,
Acting Regional Administrator, Region V.

[FR Doc. 02-19800 Filed 8-5-02; 8:45 am]

BILLING CODE 6560-50-U